DEPARTMENT OF ENERGY

Federal Energy Regulatory Commission

Notice of Intent To File Application for a New License

June 16, 2005.

Take notice that the following notice of intent has been filed with the Commission and is available for public inspection:

a. Type of filing: Notice of Intent to File an Application for New License.

b. Project No: 503.

c. Date filed: July 23, 2003.

d. Submitted By: Idaho Power Company.

e. Name of Project: Swan Falls Hydroelectric Project.

f. Location: Swan Falls Project is located on the Snake River in Ada and Owyhee Counties of Southwestern Idaho.

g. Filed Pursuant to: Section 15 of the Federal Power Act, 18 CFR 16.6.

h. Pursuant to section 16.19 of the Commission's regulations, the licensee is required to make available the information described in section 16.7 of the regulations. Such information is available from the Idaho Power Company, 1221 West Idaho Street, Corporate Library, 2nd Fl, P.O. Box 70, Boise, Idaho 83707, 208-388-2491.

i. FERC Contact: John Blair, 202-502-6092. John Blair@Ferc.Gov

j. Expiration Date of Current License: June 30, 2010.

k. Project Description: Swan Falls is a 1,218 foot long concrete gravity and rock-fill dam composed of the left abutment embankment, the spillway section, a center island, the old powerhouse section, the intermediate dam, and the new powerhouse. The install plant capacity based upon each turbine's nameplate rating is 25,000 kilowatts.

l. The licensee states its unequivocal intent to submit an application for a new license for Project No. 503. pursuant to 18 CFR 16.9(b)(1) each application for a new license and any competing license applications must be filed with the Commission at least 24 months prior to the expiration of the existing license. All applications for license for this project must be filed by June 30, 2008.

A copy of the application is available for review at the Commission in the Public Reference Room or may be viewed on the Commission's Web site at http://www.ferc.gov using the “FERRIS” link. Enter the docket number excluding the last three digits in the docket number field to access the document. For assistance, call 1-866-208-3676 or for TTY, (202) 502-8659. A copy is also available for inspection and reproduction at the address in item h above.

Magalie R. Salas,
Secretary.

[FR Doc. E5-3240 Filed 6-21-05; 8:45 am]

BILLING CODE 6717-01-P